DEPARTMENT OF HOMELAND SECURITY

Coast Guard

[Docket No.USCG-2014-0482]

Commercial Fishing Safety Advisory Committee; Vacancies

AGENCY: Coast Guard, Department of Homeland Security.

ACTION: Request for applications.

SUMMARY: The Coast Guard seeks applications for membership on the Commercial Fishing Safety Advisory Committee. The Commercial Fishing Safety Advisory Committee provides advice and makes recommendations to the Coast Guard and the Department of Homeland Security on various matters relating to the safe operation of commercial fishing industry vessels.

DATES: Applicants must submit a cover letter and resume in time to reach the Designated Federal Officer on or before July 25, 2014.

ADDRESSES: Applicants should submit a cover letter and resume via one of the following methods:

• By Mail: Commandant (CG-CVC), Attn: Fishing Vessel Safety, U.S. Coast Guard Stop 7501, 2703 Martin Luther King Jr Avenue SE., Washington, DC 20593-7501.

• By Fax: 202-372-8377.

• By Email: jack.a.kemerer@uscg.mil.

FOR FURTHER INFORMATION CONTACT: Mr. Jack Kemerer, Alternate Designated Federal Officer, telephone 202-372-1249, fax 202-372-8377, or email jack.a.kemerer@uscg.mil.

SUPPLEMENTARY INFORMATION: The Commercial Fishing Safety Advisory Committee is a federal advisory committee authorized under Title 46, United States Code, section 4508, as amended by section 604 of the Coast Guard Authorization Act of 2010, (Pub. L. 111-281) and chartered under the Federal Advisory Committee Act, Title 5, United States Code, Appendix, (Pub. L. 92-463, 86 Statute 770, as amended). The Commercial Fishing Safety Advisory Committee provides advice on issues related to the safety of commercial fishing industry vessels regulated under Chapter 45 of Title 46, United States Code, which includes uninspected fish catching vessels, fish processing vessels, and fish tender vessels (See Title 46 United States Code section 4508).

The Commercial Fishing Safety Advisory Committee meets at least once a year. It may also meet for other extraordinary purposes. Its subcommittees or working groups may communicate throughout the year to prepare for meetings or develop proposals for the committee as a whole to address specific tasks.

The Commercial Fishing Safety Advisory Committee shall consist of 18 members with particular expertise, knowledge, and experience regarding the commercial fishing industry as follows:

(a) Ten (10) members who shall represent the commercial fishing industry and who—(1) reflect a regional and representational balance; and (2) have experience in the operation of vessels to which Chapter 45 of Title 46, United States Code applies, or as crew member or processing line worker on a fish processing vessel;

(b) Three (03) members who shall represent the general public, including, whenever possible—(1) An independent expert or consultant in maritime safety; (2) a marine surveyor who provides services to vessels to which Chapter 45 of Title 46, United States Code applies; and (3) a person familiar with issues affecting fishing communities and families of fishermen; and

(c) One member each of whom shall represent—(1) Naval architects and marine engineers; (2) manufacturers of equipment for vessels to which Chapter 45 of Title 46, United States Code applies; (3) education or training professionals related to fishing vessel, fish processing vessel, or fish tender vessel safety or personnel qualifications; (4) underwriters that insure vessels to which Chapter 45 of Title 46, United States Code applies; and (5) owners of vessels to which Chapter 45 of title 46, United States Code applies.

The Coast Guard will consider applications for seven (07) positions that expire or become vacant in October 2014 in the following categories:

(a) Commercial Fishing Industry representatives (four positions);

(b) General Public, a marine surveyor who provides services to commercial fishing vessels (one position);

(c) A representative of manufacturers of equipment for commercial fishing vessels (one position); and

(d) A representative of owners of commercial fishing vessels (one position).

Each member serves for a term of three years. An individual may be appointed to a term as a member more than once. All members serve at their own expense and receive no salary from the Federal Government, although travel reimbursement and per diem may be provided for called meetings.

Registered lobbyists are not eligible to serve on Federal Advisory Committees. Registered lobbyists are lobbyists required to comply with provisions contained in the Lobbying Disclosure Act, Title 2, United States Code, section 1603.

The Department of Homeland Security does not discriminate in selection of Committee members on the basis of race, color, religion, sex, national origin, political affiliation, sexual orientation, gender identity, marital status, disability and genetic information, age, membership in an employee organization, or other non-merit factor. The Department of Homeland Security strives to achieve a widely diverse candidate pool for all of its recruitment actions.

If you are selected as a non-representative member from the general public, you will be appointed and serve as a Special Government Employee as defined in section 202(a) of Title 18, United States Code. As a candidate for appointment as a Special Government Employee, applicants are required to complete a Confidential Financial Disclosure Report (Office of Government Ethics Form 450). The Department of Homeland Security may not release the reports or the information in them to the public except under an order issued by a Federal court or as otherwise provided under the Privacy Act (Title 5, United States Code, section 552a). Applicants can obtain this form by going to the Web site of the Office of Government Ethics (www.oge.gov), or by contacting the individual listed above in FOR FURTHER INFORMATION CONTACT. Applications which are not accompanied by a completed Office of Government Ethics Form 450 will not be considered.

If you are interested in applying to become a member of the Committee, send your application materials to Mr. Jack Kemerer, Commercial Fishing Safety Advisory Committee Alternate Designated Federal Officer, via one of the transmittal methods provided above by the deadline in the DATES section of this notice. Indicate the specific position(s) for which you wish to be considered and specify your areas of expertise, knowledge, and experience that qualifies you for service on the Commercial Fishing Safety Advisory Committee. Note that during the vetting process, applicants may be asked to provide their date of birth and social security number. All email submittals will receive email receipt confirmation.

To visit our online docket, go to http://www.regulations.gov, enter the docket number for this notice (USCG-2014-0482) in the Search box, and click “Search”. Please do not post your resume on this site.

Dated: June 12, 2014.
Jonathan C. Burton,
Captain, U.S. Coast Guard, Director of Inspections and Compliance.

[FR Doc. 2014-14494 Filed 6-20-14; 8:45 am]

BILLING CODE 9110-04-P